DEPARTMENT OF ENERGY

Federal Energy Regulatory Commission

Change in Date for the July Commission Open Meeting

Take notice that the Commission has changed the date for its July 2023 open meeting. The meeting will now take place on Thursday, July 27, 2023. The open meeting had been initially scheduled for Thursday, July 20, 2023.¹

¹ The start time of the meeting remains 10:00 a.m. Eastern Time.

Dated: April 3, 2023.
Kimberly D. Bose,
Secretary.

[FR Doc. 2023-07393 Filed 4-6-23; 8:45 am]

BILLING CODE 6717-01-P